OFFICE OF PERSONNEL MANAGEMENT

[OMB Control number 3206-0248]

Submission for Review: Application for Senior Administrative Law Judge (OPM Form 1655), and Geographic Preference Statement for Senior Administrative Law Judge Applicant (OPM Form 1655-A)

AGENCY: U.S. Office of Personnel Management.

ACTION: 30-Day Notice and request for comments.

SUMMARY: The Human Resources Solutions, U.S. Office of Personnel Management (OPM) offers the general public and other Federal agencies the opportunity to comment on an existing information collection request (ICR) 3206-0248, OPM 1655, and OPM 1655-A. These forms are used by retired Administrative Law Judges seeking reemployment on a temporary and intermittent basis to complete hearings of one or more specified case(s) in accordance with the Administrative Procedures Act of 1946. As required by the Paperwork Reduction Act of 1995, (Pub. L. 104-13, 44 U.S.C. chapter 35) as amended by the Clinger-Cohen Act (Pub. L. 104-106), OPM is soliciting comments for this collection. The information collection was previously published in the Federal Register on May 4, 2011 at Volume 76 FR 25379 allowing for a 60-day public comment period. No comments were received for this information collection. The purpose of this notice is to allow an additional 30 days for public comments. The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

DATES: Comments on this proposal will be accepted until September 15, 2011. This process is conducted in accordance with 5 CFR 1320.1.

ADDRESSES: Interested persons are invited to submit written comments on the proposed information collection to the Office of Information and Regulatory Affairs, Office of Management and Budget, 725 17th Street, NW., Washington, DC 20503, Attention: Desk Officer for the Office of Personnel Management or sent via electronic mail to oira_submission@omb.eop.gov or faxed to (202) 395-6974.

FOR FURTHER INFORMATION CONTACT: A copy of this ICR, with applicable supporting documentation, may be obtained by contacting the Office of Information and Regulatory Affairs, Office of Management and Budget, 725 17th Street, NW., Washington, DC 20503, Attention: Desk Officer for the Office of Personnel Management or sent via electronic mail to oira_submission@omb.eop.gov or faxed to (202) 395-6974.

Analysis

Agency: Human Resources Solutions, U.S. Office of Personnel Management.

Title: Application for Senior Administrative Law Judge (OPM Form 1655), and Geographic Preference Statement for Senior Administrative Law Judge Applicant (OPM Form 1655-A).

OMB Number: 3206-0248.

OPM Forms 1655 and 1655-A Frequency: Annually.

Affected Public: Individuals.

OPM Form 1655 Number of Respondents: Approximately 100.

OPM Form 1655 Estimated Time per Respondent: 30-45 Minutes.

OPM Form 1655 Burden Hours: 94 hours.

OPM Form 1655-A Number of Respondents: Approximately 150.

OPM Form 1655-A Estimated Time per Respondent: 15-25 Minutes.

OPM Form 1655-A Burden Hours: 67 hours.

Total Burden Hours: 161 hours.

U.S. Office of Personnel Management.
John Berry,
Director.

[FR Doc. 2011-20797 Filed 8-15-11; 8:45 am]

BILLING CODE 6325-43-P